LEGAL SERVICES CORPORATION

45 CFR Part 1611

Eligibility; 1611 Negotiated Rulemaking Working Group Meeting

AGENCY: Legal Services Corporation.

ACTION: Regulatory negotiation working group meeting.

SUMMARY: LSC is conducting a Negotiated Rulemaking to consider revisions to its eligibility regulations at 45 CFR Part 1611. This document announces the dates, times, and address of the next meeting of the working group, which is open to the public.

DATES: The Legal Services Corporation's 1611 Negotiated Rulemaking Working Group will meet on April 11-12, 2002. The meeting will begin at 9 a.m. on April 11, 2002. It is anticipated that the meeting will end by 3:30 p.m. on April 12, 2002.

ADDRESSES: The meeting will be held at the offices of the Center for Law and Social Policy, 1015 15th Street, NW., Suite 400, Washington, DC 20005.

FOR FURTHER INFORMATION CONTACT: Mattie C. Condray, Senior Assistant General Counsel, Legal Services Corporation, 750 First St., NE., 11th Floor, Washington, DC 20001; (202) 336-8817 (phone); (202) 336-8952 (fax); mcondray@lsc.gov.

SUPPLEMENTARY INFORMATION: LSC is conducting a Negotiated Rulemaking to consider revisions to its eligibility regulations at 45 CFR Part 1611. The working group will hold its next meeting on the dates and at the location announced above. The meeting is open to public observation. Upon request, meeting notices will be made available in alternate formats to accommodate visual and hearing impairments. Individuals who have a disability and need an accommodation to attend the meeting may notify Ms. Condray.

Victor M. Fortuno,
Vice President for Legal Affairs, General Counsel & Corporate Secretary.

[FR Doc. 02-6840 Filed 3-20-02; 8:45 am]

BILLING CODE 7050-01-P